DEPARTMENT OF HOMELAND SECURITY

U.S. Citizenship and Immigration Services

[USCIS No. 2391-06; DHS Docket No. USCIS-2006-0026]

RIN 1615-ZA37

Expanding Pilot Program Affecting the Filing Procedures for Certain Form I-485 Applicants Residing Within the Jurisdiction of the Dallas, El Paso, or Oklahoma City Offices

AGENCY: U.S. Citizenship and Immigration Services, DHS.

ACTION: Notice.

SUMMARY: This Notice expands a pilot program being conducted by U.S. Citizenship and Immigration Services that changes the procedures for certain aliens filing Form I-485, “Application to Register Permanent Residence or Adjust Status,” based on a family relationship, the diversity visa lottery, or qualification for most special immigrant categories. Under the expanded pilot program, affected aliens residing within the jurisdiction of the Dallas District Office, El Paso District Office, or Oklahoma City Sub-Office will be required to file Form I-485 and any necessary documentation and fees in person at the appropriate local office, rather than by mail, after self-scheduling an appointment using Internet-based InfoPass. This pilot program tests an alternative to current filing and processing procedures with the goal of achieving a 90-day processing time for affected Forms I-485.

DATES: As applied to the Dallas District Office, this Notice is effective October 23, 2006 and will terminate on September 21, 2007. As applied to the El Paso District Office and Oklahoma City Sub-Office, this Notice is effective November 20, 2006 and will terminate on September 21, 2007.

FOR FURTHER INFORMATION CONTACT: Kristie Krebs, Adjudications Officer, U.S. Citizenship and Immigration Services, Department of Homeland Security, 20 Massachusetts Avenue, NW., Suite 1000, Washington, DC 20526, Telephone (202) 272-1001.

SUPPLEMENTARY INFORMATION:

I. Background

A. General Filing Requirements

To apply for lawful permanent resident (LPR) status, aliens residing within the United States must file Form I-485, “Application to Register Permanent Residence or Adjust Status,” along with any required documentation establishing eligibility, at a U.S. Citizenship and Immigration Services (USCIS) Service Center or USCIS’ Chicago Lockbox Facility. Currently, applicants must file Form I-485 by mail. The filing location is specified in the instructions to Form I-485 and on the USCIS Web site, http://www.uscis.gov, and depends on the immigrant classification on which the Form I-485 is based and the alien's residence. For example, an alien whose Form I-485 is based on his or her marriage to a U.S. citizen and who resides in the State of Colorado must file Form I-485, with a concurrently filed Form I-130, “Petition for Alien Relative,” or evidence that such Form I-130 has already been approved (typically in the form of a Form I-797, “Notice of Action,” issued by USCIS), supporting documentation, and required fees to USCIS’ Chicago Lockbox Facility. See Direct Mail Instructions for Form I-485.

After mailing-in the Form I-485 application package, the applicant will receive an appointment notice from USCIS to appear at one of USCIS’ Application Support Centers (ASCs) for biometrics capture, which involves electronically taking the applicant's photograph, fingerprints, and signature. USCIS uses this information to conduct background checks and produce a secure, biometric Permanent Resident Card (Form I-551) in the event of application approval. For those immigrant categories requiring a personal interview, the applicant (and petitioner, if applicable) also will receive an appointment notice to appear at the local USCIS office for a personal interview. See, e.g., 8 CFR 245.6 (interviews are required for adjustment applicants but may be waived for children under the age of 14, when the applicant is clearly ineligible for adjustment of status, or when deemed unnecessary by USCIS). Once adjudication is completed, USCIS will mail the applicant a written decision. 8 CFR 103.2(b)(19).

B. Dallas Pilot Program

USCIS is continually striving to improve the efficiency of the processing of Forms I-485 to reduce processing times and prevent backlogs. By statute, USCIS has the authority to “implement innovative pilot initiatives” to eliminate current and prevent future backlogs in the processing of immigration benefits. See 6 U.S.C. 271(a)(5). Based on this statutory authority, USCIS launched a pilot program in May 2004 to test an alternative to current filing procedures for certain Form I-485 applicants to achieve a 90-day processing time. See http://uscis.gov/graphics/fieldoffices/dallas/Pilot_overview.htm. The pilot program, called the “Dallas Office Rapid Adjudication” pilot program, has been limited to the Dallas District Office and is a voluntary pilot program. Id.

1. Pilot Program Eligibility Requirements

To be eligible to participate in the pilot program, the applicant must be filing Form I-485 based upon:

(1) A family relationship (e.g., spouse, parent, child, sibling) demonstrated by an approved or concurrently filed Form I-130 with an “immediately-available” immigrant visa as explained in the instructions to Form I-130 (see 8 CFR 204.1(a)(1));

(2) The diversity visa lottery (see Immigration and Nationality Act (INA) sec. 203(c); 8 U.S.C. 1153(c); 8 CFR 245.1(a));

(3) Qualification as a battered or abused spouse or child (see 8 CFR 204.2(c)) demonstrated by an approved Form I-360, “Petition for Amerasian, Widow(er), or Special Immigrant;” or

(4) Qualification as a Special Immigrant, as set forth at section 101(a)(27) of the INA, 8 U.S.C. 1101(a)(27), demonstrated by an approved or concurrently filed Form I-360, excluding special immigrants who are religious workers.

2. Pilot Program Filing Procedures

Prior to the Dallas pilot program, an applicant falling within one of these categories would have had to file his or her Form I-485 package by mailing it to the Chicago Lockbox Facility in accordance with the Direct Mail Instructions for Form I-485. Instead, under the filing requirements of the Dallas pilot program, eligible applicants now may file their Form I-485, together with any petition being concurrently filed (i.e., Form I-130 or Form I-360) or proof of petition approval, supporting documentation, and applicable filing and biometric capture fees, in person at the Dallas District Office. To file in-person, eligible applicants first must schedule an appointment electronically using “InfoPass.” InfoPass is a USCIS Internet-based system for scheduling appointments found on USCIS' Web site at http://infopass.uscis.gov/. It may be accessed from any computer with Internet access. For those applicants who do not have Internet access, USCIS offers InfoPass at kiosks located at its local offices.

If the application package is complete at the time of filing, a USCIS officer will conduct any required interview on that same day. Participants thereafter will receive an appointment notice for biometrics capture at a local ASC. Once all required background checks are completed and any derogatory information is resolved, a USCIS officer will complete adjudication of the Form I-485 and any concurrently filed petitions. If the application package is not complete, the USCIS officer will not accept the application package.

While USCIS believes that the Dallas pilot program has been successful, USCIS has determined that the pilot program should undergo some changes so that USCIS can better gauge the effectiveness of the alternative filing and processing procedures that form the basis of the pilot program. USCIS is issuing this Notice to announce these changes to the pilot program.

II. Changes to the Pilot Program

USCIS is changing the Dallas pilot program by: (1) Adding two additional USCIS offices that will conduct the pilot program; (2) making the filing procedures mandatory for those individuals who meet the current eligibility requirements for pilot program participation and reside within the jurisdictions conducting the pilot program; and (3) modifying the processing procedures for incomplete application packages presented at InfoPass appointments. These changes are discussed below. This Notice does not change the eligibility requirements or filing procedures established by the Dallas pilot program discussed above.

Because USCIS is increasing the number of participating USCIS offices, USCIS is naming the pilot program, “District Office Rapid Adjudication” (DORA). USCIS has referred to the Dallas pilot program as “DORA,” an acronym for “Dallas Office Rapid Adjudication.” USCIS is using the same acronym to refer to the expanded pilot program, “District Office Rapid Adjudication.” At the end of an initial 180-day period, USCIS will evaluate the results of the DORA pilot program and determine whether it should be extended past the termination date specified in this Notice, September 21, 2007.

A. Pilot Program Locations

This Notice is increasing the number of locations that will conduct the pilot program from one USCIS office to the following three USCIS offices:

• Dallas District Office (current);

• El Paso District Office (new); and

• Oklahoma City Sub-Office (new).

Therefore, only eligible applicants who currently reside within the jurisdiction of the Dallas District Office, El Paso District Office, or the Oklahoma City Sub-Office are subject to the requirements of the pilot program. See 8 CFR 245.2(a)(1) (stating that aliens must apply to the director having jurisdiction over his or her place of residence, unless otherwise provided for in the regulations or instructions to the application form).

B. Mandatory Participation

Under this Notice, USCIS is requiring all Form I-485 applicants who meet the pilot program's eligibility requirements and who reside within the jurisdiction of one of the three USCIS offices conducting the pilot program to follow the pilot program's filing procedures during the period that the pilot program is in effect.

Currently, because the pilot program is voluntary, and eligible Form I-485 applicants may choose to file their application package by mail in accordance with normal filing procedures rather than participate in the pilot program, USCIS cannot fairly judge the effectiveness of the pilot program or the associated costs of the program. Full participation by eligible applicants will allow for a valid evaluation of the pilot program and comparison of the pilot program with the current Direct Mail process used in all other offices. See 69 FR 67751 (Nov. 19, 2004) (Direct Mail process for Forms I-485, I-765, and I-131).

Once the pilot program terminates, applicants must return to following the Direct Mail process for filing their Form I-485 application packages as specified in the instructions to the Form I-485.

The filing procedures under the DORA pilot program will be specified in the addendum that accompanies the Form I-485 when the Form I-485 is distributed by the Forms Center. It also will be available with the electronic version of the Form I-485 for applicants who obtain a copy of the form from the USCIS Web site. This addendum has been revised in conjunction with this Notice. USCIS also will provide additional guidance for individuals residing within the jurisdictions of the Dallas, El Paso, or Oklahoma City offices who are affected by this Notice via its Web site at http://www.uscis.gov. In addition, USCIS will change the Web pages for the Dallas, El Paso, and Oklahoma City offices, accessible from http://www.uscis.gov, to reflect the filing procedures under the DORA pilot program.

This Notice does not affect Form I-485 applicants who do not reside within the jurisdictions conducting the pilot program. Such applicants must continue to file their Form I-485 application packages in accordance with current filing instructions for Form I-485. This Notice also does not affect existing filing procedures for applicants in the districts that are conducting the pilot program, but who are seeking employment-based LPR status. The eligibility and filing requirements for all applications and petitions, including Form I-485, Form I-130, and Form 360, are available on the USCIS Web site at http://www.uscis.gov.

C. Processing Procedures

1. Incomplete Application Packages

USCIS is changing the procedures followed by USCIS officers in the processing of Forms I-485 application packages that are incomplete. Under this Notice, if the applicant attempts to file an application package that is not complete at his or her InfoPass appointment, the USCIS officer may propose to the applicant that the officer intends to reject the package based on missing information or evidence identified by the officer in writing. Nevertheless, the USCIS officer will accept the application package for filing if the applicant insists on submitting the application package despite the noted deficiencies and risk of denial.

2. Pilot Program Applicants Seeking Employment Authorization or Advance Parole

USCIS notes that, at the time of the InfoPass appointment, a participating pilot program office may, in its discretion, accept a Form I-765, “Application for Employment Authorization,” and a Form I-131, “Application for Travel Document,” along with the appropriate fees and supporting documentation, with the Form I-485 package. If either Form I-765 or Form I-131 is not complete, or the applicant chooses to submit the forms at a later date, the applicant must file the forms, accompanied by the appropriate filing fees, with the USCIS office specified in the instructions to those forms. Currently, such applications must be mailed to the Chicago Lockbox Facility. This Notice does not alter the filing and processing procedures for such applications.

III. Paperwork Reduction Act

Under the Paperwork Reduction Act of 1995, Public Law 104-13, 109 Stat. 163 (1995), all Departments are required to submit to the Office of Management and Budget (OMB), for review and approval, any reporting or recordkeeping requirements. USCIS acknowledges that this Notice will increase the burden for those applicants in the Dallas, El Paso, and Oklahoma City offices, by requiring that they first schedule an appointment electronically before submitting the completed Form I-485 in person at the appropriate office.

Since travel and interview time are already included in the instructions to the Form I-485, the only additional burden on the public will be scheduling an appointment electronically prior to submitting the application in person at the appropriate office. It is estimated that approximately 60% (5,517) of the affected applicants have a computer with direct access to the internet. For those applicants with direct computer access to the Internet, it is estimated that it will take approximately 10 minutes to schedule an appointment with USCIS. For the other 40% (3,677) of the applicants who will need direct Internet access through friends, private businesses, local schools, libraries, or USCIS kiosks, it is estimated it will take approximately one hour to schedule an appointment.

Accordingly, USCIS will adjust the burden hours associated with filing the Form I-485 using the OMB's electronic system (ROCIS) to reflect the increase in the burden hours on the public.

Dated: September 15, 2006.
Emilio T. Gonzalez,
Director, U.S. Citizenship and Immigration Services.

[FR Doc. 06-7791 Filed 9-20-06; 8:45 am]

BILLING CODE 4410-10-P